GENERAL SERVICES ADMINISTRATION

48 CFR Parts 511 and 552

[GSAR Case 2014-G504; Docket No. 2015-0003; Sequence No. 1]

RIN 3090-AJ53

General Services Administration Acquisition Regulation (GSAR); Unique Item Identification (UID)

AGENCY: Office of Acquisition Policy, General Services Administration.

ACTION: Proposed rule.

SUMMARY: The General Services Administration (GSA) is proposing to amend the General Services Administration Acquisition Regulation (GSAR) to remove the GSAR clause Unique Item Identification (UID).

DATES: Interested parties should submit written comments to the Regulatory Secretariat at one of the addressees shown below on or before April 6, 2015 to be considered in the formation of the final rule.

ADDRESSES: Submit comments in response to GSAR Case 2014-G504 by any of the following methods:

• Regulations.gov: http://www.regulations.gov. Submit comments by searching for “GSAR Case 2014-G504.” Select the link “Comment Now” and follow the instructions provided at the “You are commenting on” screen. Please include your name, company name (if any), and “GSAR Case 2014-G504” on your attached document.

• Fax: 202-501-4067.

• Mail: General Services Administration, Regulatory Secretariat (MVCB), ATTN: Hada Flowers, 1800 F Street NW., 2nd Floor, Washington, DC 20405.

Instructions: Please submit comments only and cite GSAR Case 2014-G504, in all correspondence related to this case. All comments received will be posted without change to http://www.regulations.gov, including any personal and/or business confidential information provided.

FOR FURTHER INFORMATION CONTACT: Mr. James Tsujimoto, Program Analyst, at 202-208-3585 or james.tsujimoto@gsa.gov, for clarification of content. For information pertaining to status or publication schedules, contact the Regulatory Secretariat at 202-501-4755. Please cite GSAR Case 2014-G504.

SUPPLEMENTARY INFORMATION:

I. Background

GSA is proposing to amend the GSAR to delete GSAR clause 552.211-93, Unique Item Identification (UID), and provide other conforming changes.

The Director of Defense Procurement and Acquisition Policy has notified GSA that GSAR clause 552.211-93 is no longer needed with respect to serially managed supply items and supply items of $5,000 or more. The GSAR clause found at 552.211-93 is unnecessarily duplicative of the Defense Federal Acquisition Regulation Supplement (DFARS), which can be used directly. Because the clause only pertains to deliveries to military activities, GSA defers to the interpretation of the Department of Defense (DoD). The DFARS already includes clauses that address the requirements underlying GSAR clause 552.211-93. As a result, the GSAR clause is not needed.

II. Discussion and Analysis

GSAR clause 552.211-93 was incorporated in Change 42 (GSAR 2007-G507, 74 FR 66251, Dec. 15, 2009) on January 14, 2010. The clause was intended to implement DFARS clauses 252.211-7003 and 252.211-7007. The Director of Defense Procurement and Acquisition Policy has since notified GSA that the GSAR implementation found at 552.211-93 mixes the two UID-related DFARS clauses and confuses the intent. DFARS 252.211-7003 relates to UID of new items delivered on a contract, while DFARS 252.211-7007 refers to marking and reporting of government furnished property and itself refers to DFARS 252.211-7003 for marking requirements. Inclusion of the actual DFARS clauses in lieu of 552.211.93 will reduce confusion and streamline the acquisition process.

The specific changes contained in this rule are as follows:

• GSAR Subpart 511.2, Using and Maintaining Requirements Documents, delete GSAR paragraph 511.204(b)(12) in its entirety.

• GSAR Subpart 552.2, Text of Provisions and Clauses, delete GSAR provision 552.211-93 in its entirety.

• General Services Administration Acquisition Manual (GSAM), GSAM Subpart 552.3, Provision and Clause Matrixes, delete the row corresponding to GSAR number 552.211-93 in the table.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

IV. Regulatory Flexibility Act

GSA does not expect this proposed rule to have a significant economic impact on a substantial number of small entities within the meaning of the Regulatory Flexibility Act, 5 U.S.C. 601, et seq., because the deletion of the clause will not substantively change the reporting, recordkeeping, or compliance requirements for contractors.

Therefore, an Initial Regulatory Flexibility Analysis has not been performed. GSA invites comments from small business concerns and other interested parties on the expected impact of this rule on small entities.

GSA will also consider comments from small entities concerning the existing regulations in subparts affected by the rule in accordance with 5 U.S.C. 610. Interested parties must submit such comments separately and should cite 5 U.S.C. 610 (GSAR Case 2014-G504), in correspondence.

V. Paperwork Reduction Act

The proposed rule does not contain any information collection requirements that require the approval of the Office of Management and Budget under the Paperwork Reduction Act (44 U.S.C. chapter 35).

List of Subjects in 48 CFR Parts 511 and 552

Government procurement.

Dated: January 22, 2015.
Jeffrey A. Koses,
Senior Procurement Executive, Office of Acquisition Policy, Office of Government-wide Policy, General Services Administration.

Therefore, GSA proposes to amend 48 CFR parts 511 and 552 as set forth below:

1. The authority citation for 48 CFR parts 511 and 552 continues to read as follows:

Authority: 40 U.S.C. 121(c).

PART 511—DESCRIBING AGENCY NEEDS

511.204 [Amended]

2. Amend section 511.204 by removing paragraph (b)(12).

PART 552—SOLICITATION PROVISIONS AND CONTRACT CLAUSES

552.211-93 [Removed and Reserved]

3. Remove and reserve section 552.211-93.

[FR Doc. 2015-02119 Filed 2-3-15; 8:45 am]

BILLING CODE 6820-61-P